DEPARTMENT OF COMMERCE

National Oceanic and Atmospheric Administration

50 CFR Parts 300 and 660

[Docket No. 050125016-5097-02; I.D. 011805C]

RIN 0648-AS61

Pacific Halibut Fisheries; Catch Sharing Plan; Fisheries Off West Coast States and in the Western Pacific; Pacific Coast Groundfish Fishery; Specifications and Management Measures; Inseason Adjustments

AGENCY: National Marine Fisheries Service (NMFS), National Oceanic and Atmospheric Administration (NOAA), Commerce.

ACTION: Final rule.

SUMMARY: The Assistant Administrator for Fisheries, NOAA (AA), on behalf of the International Pacific Halibut Commission (IPHC), publishes annual management measures to govern the Pacific halibut fishery. These measures are promulgated as regulations by the IPHC and accepted by the Secretary of State. The AA announces modifications to the Catch Sharing Plan (Plan) for Area 2A and implementing regulations for 2005, and announces approval of the Area 2A Plan. The AA also announces related changes to management measures in the recreational Pacific Coast groundfish fisheries, which are authorized by the Pacific Coast Groundfish Fishery Management Plan (FMP). These actions are intended to enhance the conservation of Pacific halibut and groundfish and further the goals and objectives of the Pacific Fishery Management Council (Pacific Council).

DATES: The amendments to § 660.384 are effective May 1, 2005. The inseason adjustment to the annual management measures for Pacific halibut fisheries are effective from April 14, 2005, until the effective date of the 2006 annual management measures, which will be published in the Federal Register.

ADDRESSES: Copies of the Plan, Environmental Assessment (EA)/Regulatory Impact Review (RIR)/Initial Regulatory Flexibility Analysis (IRFA), Final Regulatory Flexibility Analysis (FRFA) and Categorical Exclusion (CE) are available from D. Robert Lohn, Regional Administrator, Northwest Region, NMFS, 7600 Sand Point Way NE, Seattle, WA 98115-0070. Electronic copies of the Plan, including proposed changes for 2005, and of the EA/RIR/IRFA are also available at the NMFS Northwest Region website: http://www.nwr.noaa.gov, click on “Pacific Halibut.”

FOR FURTHER INFORMATION CONTACT: Jamie Goen or Yvonne deReynier (Northwest Region, NMFS), phone: 206-526-6150, fax: 206-526-6736 or e-mail: jamie.goen@noaa.gov or yvonne.dereynier@noaa.gov.

SUPPLEMENTARY INFORMATION: The IPHC manages Pacific halibut in waters off Alaska, British Columbia, and the U.S. West Coast. On January 18-21, 2005, the IPHC held its annual meeting in Victoria, B.C., and recommended its bilateral regulations for 2005. The Secretary of State of the United States has accepted the 2005 IPHC regulations under section 4 of the Northern Pacific Halibut Act (Halibut Act, 16 U.S.C. 773-773k). For U.S. waters, NMFS works with the North Pacific and Pacific Fishery Management Councils to set area-specific fishery management measures. IPHC refers to waters off the U.S. West Coast (Washington, Oregon, and California) as “Area 2A.” In addition, regulations governing the retention of groundfish in the recreational halibut fishery in Area 2A are included in the Pacific coast groundfish regulations at Title 50 in the Code of Federal Regulations (CFR), part 660, subpart G, which regulates fishing for over 80 species of groundfish off the coasts of Washington, Oregon, and California. Groundfish specifications and management measures are developed by the Pacific Council, and are implemented by NMFS. The Pacific coast groundfish specifications and management measures for 2005-2006 were codified at 50 CFR part 600, subpart G and published in the Federal Register as a proposed rule on September 21, 2004 (69 FR 56550), and as a final rule on December 23, 2004 (69 FR 77012), and as subsequently amended through inseason action.

On February 7, 2005, NMFS published a proposed rule to revise the Area 2A Plan for Pacific halibut and to implement the portions of the revised Plan that are not implemented in the IPHC regulations (70 FR 6395). A complete description of the Pacific Council recommended changes to the Plan and management measures were published in the proposed rule for this action. NMFS requested comment on the proposed rule through March 16, 2005. On February 25, 2005, NMFS published a final rule (70 FR 9242) to implement the IPHC′s recommendations and to announce fishery regulations for U.S. waters off Alaska and fishery regulations for treaty commercial and ceremonial and subsistence fisheries and some regulations for non-treaty commercial fisheries for U.S. waters off the West Coast. None of the Pacific Council′s proposed 2005 revisions to the Plan addressed either the treaty fisheries or the non-treaty commercial fisheries.

As described in the proposed rule, there was confusion over the Pacific Council′s recommendation to prohibit the retention of all groundfish, except sablefish when allowed by groundfish regulation, in the Columbia River fishery during all days and in the Central Coast fisheries during “all-depth” days. The confusion was over how it would apply to the Columbia River subarea, which is shared by Washington and Oregon. At their November 1-5, 2004, meeting, the Pacific Council adopted a recommendation for “Sub-areas south of Leadbetter Point, Washington” that stated “No groundfish retention except sablefish allowed during the all-depth fishery if halibut are on-board the vessel except south of Humbug Mt.” After the November meeting it became apparent that various Council participants were confused as to exactly where this prohibition would apply. Because of the introductory description (Sub-areas south of Leadbetter Point, Washington), some thought it applied in the entire Columbia River area and the Oregon Central Coast subarea. However, others thought this measure would only apply off Oregon because it was introduced by Oregon and had not been discussed in Washington State meetings with Washington fishermen, and because one purpose was to allow dockside enforcement during the groundfish closure seaward of 40 fm (73 m), which is only in place off of Oregon. In the proposed rule, NMFS concluded the two possible ways to implement this provision in the Columbia River subarea would be to apply the groundfish retention prohibition to all halibut fishing in the Columbia River subarea or only to vessels that land halibut in Oregon.

Therefore, NMFS requested that the Pacific Council clarify this recommendation at their March 6-11, 2005, meeting in Sacramento, CA. NMFS scheduled the public comment period on the proposed rule to end on March 16, 2005, after the Pacific Council′s March meeting. At their March 2005 meeting, the Pacific Council recommended and NMFS is implementing in this final rule for the halibut regulations and in this inseason action for the groundfish regulations (1) a prohibition on the landing of all groundfish, except sablefish when allowed by groundfish regulation, in the Columbia River recreational fishery when halibut are onboard the vessel and (2) a prohibition on the retention of all groundfish, except sablefish when allowed by groundfish regulation, in the Central Coast recreational fisheries during “all depth” days when halibut are onboard the vessel.

This final rule announces approval of revisions to the Area 2A Plan and implements the Area 2A Pacific halibut Plan and management measures for 2005. These halibut management measures are effective until superceded by the 2006 halibut management measures that will be published in the Federal Register.

Comments and Responses

During the comment period on the proposed rule for implementing the Area 2A Plan, NMFS received three letters of comment, two of those letters were from the Washington Department of Fish and Wildlife (WDFW) and the Oregon Department of Fish and Wildlife (ODFW). The letters from WDFW and ODFW, commenting on the season dates, are addressed below in the section on the Plan for Area 2A.

Comment 1: The commenter opposed NMFS proposal to remove the minimum length requirement for sport halibut caught south of Leadbetter Point, WA, stating that this requirement is an important conservation measure, balancing the overall ecosystem. The commenter voiced a concern that removing the minimum length requirement would cause a decline in halibut populations.

Response: Sport fishing for halibut off the Oregon coast has been managed with a 32-inch (81-cm) minimum size limit since 1989. In the Columbia River area (shared between Washington and Oregon), the sport fishery for halibut has been managed with a 32 inch (81 cm) size limit since 2002. Off Washington, there has not been a size limit for sport halibut fisheries since at least 1988.

The EA (see ADDRESSES for a copy) for this action analyzed the impacts of retaining the current size limit, requiring fishery participants to release any undersized halibut (Alternative 1), versus eliminating the minimum size limit for the sport fisheries south of Leadbetter Point, WA (Alternative 2). Area 2A sport halibut management subareas south of Leadbetter Point, WA include the Columbia River subarea (Leadbetter Point, WA to Cape Falcon, OR), the Central Coast subarea (Cape Falcon, OR to Humbug Mountain, OR), and the southern Oregon/California subarea (south of Humbug Mountain, OR). Based on the analysis in the EA and on a recommendation from the Pacific Council and originally from ODFW, NMFS proposed to eliminate the minimum size limit south of Leadbetter Point, WA, in their proposed rule (70 FR 6395, February 7, 2005). This action is intended to reduce the number of halibut released and time on the water, thus reducing incidental catch of groundfish species without harming the halibut population.

The halibut population in Area 2A is a small portion of the overall halibut stock off northern North America and is thought to migrate down from breeding grounds off Alaska and Canada. Annual halibut harvest amounts are set by the IPHC, which has a long history of conservative halibut management. The IPHC surveys the halibut stock annually to monitor biomass trends and adjusts their total allowable catch to mirror those trends. Neither retaining or eliminating the minimum size limit will have any effect on the amount of halibut taken in Area 2A. Eliminating the minimum size limit, however, could have an effect on the number of halibut taken in the sport fisheries south of Leadbetter Point, WA, and on the sex composition of the local halibut catch. Because eliminating the minimum size limit would allow the retention of smaller-size halibut, a larger number of halibut may be taken in the fishery before the quota is reached than under a larger size limit. Female halibut grow at a faster rate and achieve greater lengths at younger ages than male halibut. Thus, a size-limited fishery may catch a greater proportion of female halibut and/or younger female than male halibut. The Oregon/California sport fishery allocation, however, is 0.36 percent of the overall North American halibut harvest, and variations in the size and sex of fish harvested in this fishery are unlikely to affect the abundance of Pacific halibut.

In addition, the South Washington Coast subarea sport fishery average halibut lengths in each year for 2001, 2002, and 2003 have been 37 in (93 cm), 39 in (98 cm), and 36 in (92 cm), respectively. Average weights for these same years have been 20.26 lb (9.2 kg), 20.62 lb (9.4 kg), and 17.42 lb (7.9 kg), respectively. In the central Oregon subarea sport fishery, average halibut lengths in each year for 2001, 2002, and 2003 have been 41 in (104 cm), 41 in (103 cm), and 40 in (101 cm), respectively. Average weights for these same years have been 23.1 lb (10.5 kg), 22.1 lb (10.0 kg) and 20.6 lb (9.3 kg). Fish taken off southern Washington are slightly smaller than those taken in the size-limited Oregon coast fishery. However, the average sizes for both subareas are well over the 32 in (81 cm) Oregon minimum size limit. Thus, although removing the minimum size limit from the sport fisheries south of Leadbetter Point, WA, may have some effect on the size composition of retained halibut, that effect will likely be minimal.

Catch Sharing Plan for Area 2

The Pacific Council′s Area 2A Plan allocates the halibut catch limit for Area 2A among treaty Indian, non-treaty commercial, and non-treaty sport fisheries in and off Washington, Oregon, and California. Those allocations were described in the proposed rule for this action (70 FR 6395, February 7, 2005). The Plan also includes many other provisions regarding the distribution of harvest in the area. For 2005, the Pacific Council recommended changes to the Plan to modify the Pacific halibut fisheries in Area 2A in 2005 and beyond pursuant to recommendations from WDFW and ODFW. These changes to the Plan will:

Allow remaining quota from Washington′s south coast subarea to be used to accommodate incidental catch in the south coast nearshore fishery;

Allow quota projected to be unused to be transferred from Oregon′s central coast subarea to another subarea south of Leadbetter Point, WA;

Revise the season structure for Oregon′s all-depth spring and summer sport fisheries;

Provide more flexibility for Oregon′s inseason sport fishery management (triggers for additional fishery openings and bag limits in the all-depth summer fishery);

Revise the public announcement process for Oregon′s all-depth summer sport fishery;

Revise the Columbia River subarea quota contributions from Oregon/California;

Remove the minimum length requirement in all subareas south of Leadbetter Point, WA;

Prohibit landing of groundfish, except sablefish, in the Columbia River subarea when halibut are onboard the vessel and prohibit the retention of groundfish, except sablefish, in Oregon′s Central Coast subarea on “all-depth” days when halibut are onboard the vessel;

Implement a closed area off Oregon′s coast; and

Revise all coordinates from degrees minutes seconds to degrees decimal minutes.

NMFS has approved the proposed changes to the Plan. Copies of the complete Plan for Area 2A as modified are available from the NMFS Northwest Regional Office (see ADDRESSES).

The ODFW held a public workshop (after the IPHC set the Area 2A quota) in Newport, OR, on January 27, 2005, to develop recommendations on the opening dates of Oregon′s central coast sport fisheries. WDFW held a public workshop in Olympia, WA on February 4, 2005, to develop recommendations on the opening dates of Washington′s Puget Sound subarea sport fisheries; on January 6 in Montesano, WA and February 22 in Olympia, WA to discuss the anticipated short season in Washington′s north coast subarea sport fishery; and February 8 in Montesano, WA to discuss groundfish retention in the Columbia River subarea sport halibut fishery. The WDFW and ODFW sent letters to NMFS providing recommendations on the opening dates and season structure for managing the sport fisheries under the 2005 quotas consistent with the Plan.

WDFW recommended an April 14 to June 20 season for eastern Puget Sound and a May 26 to July 31 season for western Puget Sound, 5 days per week (closed Tuesday and Wednesday). The recommended number of fishing days is based on an analysis of past harvest patterns in this fishery and meets the requirements of the Plan for the overall Puget Sound sport fishery subarea. For the Washington North Coast subarea, the Plan allows for a season opening May 10 and continuing until the May sub-quota is taken, 5 days per week (closed Sunday and Monday), and a second season opening June 16 and continuing until the remaining quota is projected to be taken, 5 days per week (closed Sunday and Monday). For the Washington South Coast subarea, the Plan allows for a season opening May 1 and continuing until July 1 or until the quota is taken, whichever is earlier, 5 days per week (closed Friday and Saturday) in the offshore area and 7 days per week in the nearshore area. Beginning July 1, and if quota remains, the south coast subarea will be open 7 days per week in the offshore and nearshore areas continuing until September 30 or until the quota is taken, whichever is earlier.

The Plan allows for a Columbia River subarea season opening on May 1 and continuing 7 days per week until September 30 or until the quota has been reached, whichever is earlier.

The Plan allows for an Oregon Central Coast subarea nearshore fishery (inside of a boundary line approximating the 40-fm (73-m) depth contour) season opening on May 1 and continuing 7 days per week until October 31 or until the sub-quota for that fishery is taken, whichever is earlier. For the all-depth fishery in that subarea, ODFW recommended a 12-day spring season of May 12-14, 19-21, June 2-4 and 9-11, based on an analysis of past harvest rates. If the spring season does not take the entire spring sub-quota for this subarea, ODFW recommended these additional potential opening dates: June 30, July 1-2, 14-16, and 28-30. ODFW further recommended re-opening the all-depth fishery on Friday, August 5 to take the summer sub-quota for this subarea, if sufficient quota remains. This summer fishery would remain open every other Friday through Sunday until the quota is taken, or October 31, whichever is earlier. The Plan also allows for an increase in the open days and bag limits in the summer all-depth season if a certain amount of quota remains after the first and third summer all-depth openers. These recommendations meet the requirements of the Plan for this subarea.

For the southernmost subarea, south of Humbug Mountain, Oregon, the Plan allows for opening this subarea on May 1 and continuing the season until October 31, 7 days per week.

NMFS is implementing sport fishing management measures in Area 2A which are in accordance with the Plan and based on recommendations from the states.

NMFS Actions

For the reasons stated herein, NMFS concurs with Pacific Council′s recommendations. NMFS hereby announces under authority of 16 U.S.C. 773-773k, the following changes to the 2005 annual halibut management measures at 70 FR 9242 (February 25, 2005) to read as follows:

1. On page 9249, in the Federal Register document published on February 25, 2005, in Section 24, “Sport Fishing for Halibut,” paragraph (4)(b) is revised to read as follows:

* * * * *

(4)* * *

(b) The sport fishing subareas, subquotas, fishing dates, and daily bag limits are as follows, except as modified under the inseason actions in Section 25. All sport fishing in Area 2A is managed on a “port of landing” basis, whereby any halibut landed into a port counts toward the quota for the area in which that port is located, and the regulations governing the area of landing apply, regardless of the specific area of catch.

(i) In Puget Sound and the U.S. waters in the Strait of Juan de Fuca, east of a line extending from 48°17.30′ N. lat., 124°23.70′ W. long. north to 48°24.10′ N. lat., 124°23.70′ W. long., there is no quota. This area is managed by setting a season that is projected to result in a catch of 64,800 lb (29 mt).

(A) The fishing season in eastern Puget Sound (east of 123°49.50′ W. long., Low Point) is April 14 through June 20 and the fishing season in western Puget Sound (west of 123°49.50′ W. long., Low Point) is May 26 through July 31, 5 days a week (Thursday through Monday).

(B) The daily bag limit is one halibut of any size per day per person.

(ii) The quota for landings into ports in the area off the north Washington coast, west of the line described in paragraph (4)(b)(i) of this section and north of the Queets River (47°31.70′ N. lat.), is 115,437 lb (52.4 mt).

(A) The fishing seasons are:

(1) Commencing May 10 and continuing 5 days a week (Tuesday through Saturday) until 83,115 lb (37.7 mt) are estimated to have been taken and the season is closed by the Commission.

(2) From June 16, and continuing thereafter for 5 days a week (Tuesday through Saturday) until the overall quota of 115,437 lb (52.4 mt) are estimated to have been taken and the area is closed by the Commission, or until September 30, whichever occurs first.

(B) The daily bag limit is one halibut of any size per day per person.

(C) A “C-shaped” yelloweye rockfish conservation area southwest of Cape Flattery is closed to sport fishing for halibut. This area is defined by the following coordinates in the order listed:

48°18.00′ N. lat.; 125°18.00′ W. long.;

48°18.00′ N. lat.; 124°59.00′ W. long.;

48°11.00′ N. lat.; 124°59.00′ W. long.;

48°11.00′ N. lat.; 125°11.00′ W. long.;

48°04.00′ N. lat.; 125°11.00′ W. long.;

48°04.00′ N. lat.; 124°59.00′ W. long.;

48°00.00′ N. lat.; 124°59.00′ W. long.;

48°00.00′ N. lat.; 125°18.00′ W. long.;

and connecting back to 48°18.00′ N. lat.; 125°18.00′ W. long.

(iii) The quota for landings into ports in the area between the Queets River, WA (47°31.70′ N. lat.) and Leadbetter Point, WA (46°38.17′ N. lat.), is 50,146 lb (22.7 mt).

(A) The fishing season commences on May 1 and continues 5 days a week (Sunday through Thursday) in all waters, except that in the area from Queets River south to 47°00′00″ N. lat. and east of 124°40′00″ W. long, the fishing season commences on May 1 and continues 7 days a week. Beginning July 1, the halibut fishery between Queets River and Leadbetter Point will be open 7 days per week. The fishery will continue from May 1 until 50,146 lb (22.7 mt) are estimated to have been taken and the season is closed by the Commission, or until September 30, whichever occurs first.

(B) The daily bag limit is one halibut of any size per day per person.

(iv) The quota for landings into ports in the area between Leadbetter Point, WA (46°38.17′ N. lat.) and Cape Falcon, OR (45°46.00′ N. lat.), is 13,747 lb (6.2 mt).

(A) The fishing season commences on May 1, and continues every day through September 30, or until 13,747 lb (6.2 mt) are estimated to have been taken and the area is closed by the Commission, whichever occurs first.

(B) The daily bag limit is one halibut of any size per day per person.

(C) Landing Pacific Coast groundfish is prohibited, except sablefish when allowed by Pacific Coast groundfish regulations, if halibut are on board the vessel.

(v) The quota for landings into ports in the area off Oregon between Cape Falcon (45°46.00′ N. lat.) and Humbug Mountain (42°40.50′ N. lat.), is 251,264 lb (114 mt).

(A) The fishing seasons are:

(1) The first season commences May 1 and continues every day through October 31, in the area inside of a boundary line approximating the 40-fathom (73-m) depth contour, or until the sub-quota for the central Oregon inside 40-fm fishery (20,101 lb (9.1 mt)) or any inseason revised subquota is estimated to have been taken and the season is closed by the Commission, whichever is earlier. The boundary line approximating the 40-fathom (73-m) depth contour between 45°46.00′ N. lat. and 42°40.50′ N. lat. is defined by straight lines connecting all of the following points in the order stated:

(1) 45°46.00′ N. lat., 124°04.49′ W. long.;

(2) 45°44.34′ N. lat., 124°05.09′ W. long.;

(3) 45°40.64′ N. lat., 124°04.90′ W. long.;

(4) 45°33.00′ N. lat., 124°04.46′ W. long.;

(5) 45°32.27′ N. lat., 124°04.74′ W. long.;

(6) 45°29.26′ N. lat., 124°04.22′ W. long.;

(7) 45°20.25′ N. lat., 124°04.67′ W. long.;

(8) 45°19.99′ N. lat., 124°04.62′ W. long.;

(9) 45°17.50′ N. lat., 124°04.91′ W. long.;

(10) 45°11.29′ N. lat., 124°05.19′ W. long.;

(11) 45°05.79′ N. lat., 124°05.40′ W. long.;

(12) 45°05.07′ N. lat., 124°05.93′ W. long.;

(13) 45°03.83′ N. lat., 124°06.47′ W. long.;

(14) 45°01.70′ N. lat., 124°06.53′ W. long.;

(15) 44°58.75′ N. lat., 124°07.14′ W. long.;

(16) 44°51.28′ N. lat., 124°10.21′ W. long.;

(17) 44°49.49′ N. lat., 124°10.89′ W. long.;

(18) 44°44.96′ N. lat., 124°14.39′ W. long.;

(19) 44°43.44′ N. lat., 124°14.78′ W. long.;

(20) 44°42.27′ N. lat., 124°13.81′ W. long.;

(21) 44°41.68′ N. lat., 124°15.38′ W. long.;

(22) 44°34.87′ N. lat., 124°15.80′ W. long.;

(23) 44°33.74′ N. lat., 124°14.43′ W. long.;

(24) 44°27.66′ N. lat., 124°16.99′ W. long.;

(25) 44°19.13′ N. lat., 124°19.22′ W. long.;

(26) 44°15.35′ N. lat., 124°17.37′ W. long.;

(27) 44°14.38′ N. lat., 124°17.78′ W. long.;

(28) 44°12.80′ N. lat., 124°17.18′ W. long.;

(29) 44°09.23′ N. lat., 124°15.96′ W. long.;

(30) 44°08.38′ N. lat., 124°16.80′ W. long.;

(31) 44°08.30′ N. lat., 124°16.75′ W. long.;

(32) 44°01.18′ N. lat., 124°15.42′ W. long.;

(33) 43°51.60′ N. lat., 124°14.68′ W. long.;

(34) 43°42.66′ N. lat., 124°15.46′ W. long.;

(35) 43°40.49′ N. lat., 124°15.74′ W. long.;

(36) 43°38.77′ N. lat., 124°15.64′ W. long.;

(37) 43°34.52′ N. lat., 124°16.73′ W. long.;

(38) 43°28.82′ N. lat., 124°19.52′ W. long.;

(39) 43°23.91′ N. lat., 124°24.28′ W. long.;

(40) 43°20.83′ N. lat., 124°26.63′ W. long.;

(41) 43°17.96′ N. lat., 124°28.81′ W. long.;

(42) 43°16.75′ N. lat., 124°28.42′ W. long.;

(43) 43°13.98′ N. lat., 124°31.99′ W. long.;

(44) 43°13.71′ N. lat., 124°33.25′ W. long.;

(45) 43°12.26′ N. lat., 124°34.16′ W. long.;

(46) 43°10.96′ N. lat., 124°32.34′ W. long.;

(47) 43°05.65′ N. lat., 124°31.52′ W. long.;

(48) 42°59.66′ N. lat., 124°32.58′ W. long.;

(49) 42°54.97′ N. lat., 124°36.99′ W. long.;

(50) 42°53.81′ N. lat., 124°38.58′ W. long.;

(51) 42°50.00′ N. lat., 124°39.68′ W. long.;

(52) 42°49.14′ N. lat., 124°39.92′ W. long.;

(53) 42°46.47′ N. lat., 124°38.65′ W. long.;

(54) 42°45.60′ N. lat., 124°39.04′ W. long.;

(55) 42°44.79′ N. lat., 124°37.96′ W. long.;

(56) 42°45.00′ N. lat., 124°36.39′ W. long.;

(57) 42°44.14′ N. lat., 124°35.16′ W. long.;

(58) 42°42.15′ N. lat., 124°32.82′ W. long.;

(59) 42°40.50′ N. lat., 124°31.98′ W. long.; and

(60) 42°38.82′ N. lat., 124°31.09′ W. long.

(2) The second season (spring season), which is for the “all-depth” fishery, is open on May 12, 13, 14, 19, 20, and 21, and June 2, 3, 4, 9, 10, and 11. The projected catch for this season is 173,372 lb (78.6 mt). If sufficient unharvested catch remains for additional fishing days, the season will re-open. Dependent on the amount of unharvested catch available, the potential season re-opening dates will be: June 30, and July 1, 2, 14, 15, 16, 28, 29, and 30. If NMFS decides inseason to allow fishing on any of these re-opening dates, notice of the re-opening will be announced on the NMFS hotline (206) 526-6667 or (800) 662-9825. No halibut fishing will be allowed on the re-opening dates unless the date is announced on the NMFS hotline.

(3) If sufficient unharvested catch remains, the third season (summer season), which is for the “all-depth” fishery, will be open August 5, 6, 7, 19, 20, and 21, September 2, 3, 4, 16, 17, 18, 30, and October 1, 2, 14, 15, 16, 28, 29, and 30, or until the combined spring season and summer season quotas in the area between Cape Falcon and Humbug Mountain, OR, totaling 231,163 lb (104.9 mt), are estimated to have been taken and the area is closed by the Commission, whichever is earlier. NMFS will announce on the NMFS hotline in July whether the fishery will re-open for the summer season in August. No halibut fishing will be allowed in the summer season fishery unless the dates are announced on the NMFS hotline. Additional fishing days may be opened if a certain amount of quota remains after August 7 and September 4. If after August 7, greater than or equal to 60,000 lbs (27.2 mt) remains in the combined all-depth and inside 40-fm (73-m) quota, the fishery may re-open on August 12, 13, 14, 19, 20, 21, 26, 27, and 28 and September 2, 3, 4, 9, 10, 11, 16, 17, 18, 23, 24, 25, and 30, and October 1, 2, 7, 8, 9, 14, 15, 16, 21, 22, 23, 28, 29, and 30 (every Friday through Sunday versus every other Friday through Sunday). If after September 4, greater than or equal to 30,000 lbs (13.6 mt) remains in the combined all-depth and inside 40-fm (73-m) quota, the fishery may re-open on September 9, 10, 11, 16, 17, 18, 23, 24, 25, and 30, and October 1, 2, 7, 8, 9, 14, 15, 16, 21, 22, 23, 28, 29, and 30 (every Friday through Sunday) with a bag limit of two fish of any size per person, per day. NMFS will announce on the NMFS hotline whether the summer all-depth fishery will be open on such additional fishing days and what days will comprise such opening.

(B) The daily bag limit is one halibut of any size per day per person, unless otherwise specified. NMFS will announce on the NMFS hotline any bag limit changes.

(C) During days open to all-depth halibut fishing, no Pacific Coast groundfish may be retained, except sablefish when allowed by Pacific Coast groundfish regulations, if halibut are on board the vessel.

(D) When the all-depth halibut fishery is closed and halibut fishing is permitted only inshore of a boundary line approximating the 40-fm (73-m) depth contour, halibut possession and retention by vessels operating offshore of 40-fm (73-m) is prohibited.

(E) A yelloweye rockfish conservation area off central Oregon is closed to sport fishing for halibut. This area is defined by the following coordinates in the order listed:

(1) 44°37.46′ N. lat.; 124°24.92′ W. long.;

(2) 44°37.46′ N. lat.; 124°23.63′ W. long.;

(3) 44°28.71′ N. lat.; 124°21.80′ W. long.;

(4) 44°28.71′ N. lat.; 124°24.10′ W. long.;

(5) 44°31.42′ N. lat.; 124°25.47′ W. long.;

(6) and connecting back to 44°37.46′ N. lat.; 124°24.92′ W. long.

(vi) In the area south of Humbug Mountain, Oregon (42°40.50′ N. lat.) and off the California coast, there is no quota. This area is managed on a season that is projected to result in a catch of less than 7,984 lb (3.6 mt).

(A) The fishing season will commence on May 1 and continue every day through October 31.

(B) The daily bag limit is one halibut of any size per day per person.

* * * * *

2. On page 9250, in the Federal Register document published on February 25, 2005, Section 25, “Flexible Inseason Management Provisions in Area 2A” is revised to read as follows:

25. Flexible Inseason Management Provisions in Area 2A

(1) The Regional Administrator, NMFS Northwest Region, after consultation with the Chairman of the Pacific Fishery Management Council, the Commission Executive Director, and the Fisheries Director(s) of the affected state(s), or their designees, is authorized to modify regulations during the season after making the following determinations.

(a) The action is necessary to allow allocation objectives to be met.

(b) The action will not result in exceeding the catch limit for the area.

(c) If any of the sport fishery subareas north of Cape Falcon, OR are not projected to utilize their respective quotas by September 30, NMFS may take inseason action to transfer any projected unused quota to another Washington sport subarea.

(d) If any of the sport fishery subareas south of Leadbetter Point, WA are not projected to utilize their respective quotas by their season ending dates, NMFS may take inseason action to transfer any projected unused quota to another Oregon sport subarea.

(2) Flexible inseason management provisions include, but are not limited to, the following:

(a) Modification of sport fishing periods;

(b) Modification of sport fishing bag limits;

(c) Modification of sport fishing size limits;

(d) Modification of sport fishing days per calendar week; and

(e) Modification of subarea quotas north of Cape Falcon, OR.

(3) Notice procedures.

(a) Actions taken under this section will be published in the Federal Register.

(b) Actual notice of inseason management actions will be provided by a telephone hotline administered by the Northwest Region, NMFS, at 206-526-6667 or 800-662-9825 (May through October) and by U.S. Coast Guard broadcasts. These broadcasts are announced on Channel 16 VHF-FM and 2182 kHz at frequent intervals. The announcements designate the channel or frequency over which the notice to mariners will be immediately broadcast. Since provisions of these regulations may be altered by inseason actions, sport fishers should monitor either the telephone hotline or U.S. Coast Guard broadcasts for current information for the area in which they are fishing.

(4) Effective dates.

(a) Any action issued under this section is effective on the date specified in the publication or at the time that the action is filed for public inspection with the Office of the Federal Register, whichever is later.

(b) If time allows, NMFS will invite public comment prior to the effective date of any inseason action filed with the Federal Register. If the Regional Administrator determines, for good cause, that an inseason action must be filed without affording a prior opportunity for public comment, public comments will be received for a period of 15 days after publication of the action in the Federal Register.

(c) Any inseason action issued under this section will remain in effect until the stated expiration date or until rescinded, modified, or superseded. However, no inseason action has any effect beyond the end of the calendar year in which it is issued.

(5) Availability of data. The Regional Administrator will compile, in aggregate form, all data and other information relevant to the action being taken and will make them available for public review during normal office hours at the Northwest Regional Office, NMFS, Sustainable Fisheries Division, 7600 Sand Point Way NE, Seattle, WA.

* * * * *

3. On page 9250, in the Federal Register document published on February 25, 2005, Section 26, “Fishery Election in Area 2A” is revised to read as follows:

26. Fishery Election in Area 2A

(1) A vessel that fishes in Area 2A may participate in only one of the following three fisheries in Area 2A:

(a) The sport fishery under Section 24;

(b) The commercial directed fishery for halibut during the fishing period(s) established in Section 8 and/or the incidental retention of halibut during the primary sablefish fishery described at 50 CFR 660.372; or

(c) The incidental catch fishery during the salmon troll fishery as authorized in Section 8.

(2) No person shall fish for halibut in the sport fishery in Area 2A under Section 24 from a vessel that has been used during the same calendar year for commercial halibut fishing in Area 2A or that has been issued a permit for the same calendar year for the commercial halibut fishery in Area 2A.

(3) No person shall fish for halibut in the directed halibut fishery during the fishing periods established in Section 8 and/or retain halibut incidentally taken in the primary sablefish fishery in Area 2A from a vessel that has been used during the same calendar year for the incidental catch fishery during the salmon troll fishery as authorized in Section 8.

(4) No person shall fish for halibut in the directed commercial halibut fishery and/or retain halibut incidentally taken in the primary sablefish fishery in Area 2A from a vessel that, during the same calendar year, has been used in the sport halibut fishery in Area 2A or that is licensed for the sport charter halibut fishery in Area 2A.

(5) No person shall retain halibut in the salmon troll fishery in Area 2A as authorized under Section 8 taken on a vessel that, during the same calendar year, has been used in the sport halibut fishery in Area 2A, or that is licensed for the sport charter halibut fishery in Area 2A.

(6) No person shall retain halibut in the salmon troll fishery in Area 2A as authorized under Section 8 taken on a vessel that, during the same calendar year, has been used in the directed commercial fishery during the fishing periods established in Section 8 and/or retain halibut incidentally taken in the primary sablefish fishery for Area 2A or that is licensed to participate in these commercial fisheries during the fishing periods established in Section 8 in Area 2A.

* * * * *

4. On page 9250, in the Federal Register document published on February 25, 2005, Section 27, “Area 2A Non-Treaty Commercial Fishery Closed Area” is revised to read as follows:

27. Area 2A Non-treaty Commercial Fishery Closed Areas

Non-treaty commercial vessels operating in the directed commercial fishery for halibut in Area 2A are required to fish outside of a closed area, known as the Rockfish Conservation Area (RCA), that extends along the coast from the U.S./Canada border south to 40°10′ N. lat. Coordinates for the specific closed area boundaries are as follows:

(1) Between the U.S./Canada border and 46°16′ N. lat., the eastern boundary of the RCA is the shoreline.

(2) Between 46°16′ N. lat. and 40°10′ N. lat., the eastern, inshore boundary of the RCA approximates the 30-fm (55-m) depth contour. The boundary is defined by straight lines connecting all of the following points in the order stated:

(1) 46°16.00′ N. lat., 124°13.05′ W. long.;

(2) 46°07.00′ N. lat., 124°07.01′ W. long.;

(3) 45°55.95′ N. lat., 124°02.23′ W. long.;

(4) 45°54.53′ N. lat., 124°02.57′ W. long.;

(5) 45°50.65′ N. lat., 124°01.62′ W. long.;

(6) 45°48.20′ N. lat., 124°02.16′ W. long.;

(7) 45°46.00′ N. lat., 124°01.86′ W. long.;

(8) 45°43.47′ N. lat., 124°01.28′ W. long.;

(9) 45°40.48′ N. lat., 124°01.03′ W. long.;

(10) 45°39.04′ N. lat., 124°01.68′ W. long.;

(11) 45°35.48′ N. lat., 124°01.89′ W. long.;

(12) 45°29.81′ N. lat., 124°02.45′ W. long.;

(13) 45°27.96′ N. lat., 124°01.89′ W. long.;

(14) 45°27.22′ N. lat., 124°02.67′ W. long.;

(15) 45°24.20′ N. lat., 124°02.94′ W. long.;

(16) 45°20.60′ N. lat., 124°01.74′ W. long.;

(17) 45°20.25′ N. lat., 124°01.85′ W. long.;

(18) 45°16.44′ N. lat., 124°03.22′ W. long.;

(19) 45°13.63′ N. lat., 124°02.70′ W. long.;

(20) 45°11.04′ N. lat., 124°03.59′ W. long.;

(21) 45°08.55′ N. lat., 124°03.47′ W. long.;

(22) 45°02.82′ N. lat., 124°04.64′ W. long.;

(23) 45°03.38′ N. lat., 124°04.79′ W. long.;

(24) 44°58.06′ N. lat., 124°05.03′ W. long.;

(25) 44°53.97′ N. lat., 124°06.92′ W. long.;

(26) 44°48.89′ N. lat., 124°07.04′ W. long.;

(27) 44°46.94′ N. lat., 124°08.25′ W. long.;

(28) 44°42.72′ N. lat., 124°08.98′ W. long.;

(29) 44°38.16′ N. lat., 124°11.48′ W. long.;

(30) 44°33.38′ N. lat., 124°11.54′ W. long.;

(31) 44°28.51′ N. lat., 124°12.03′ W. long.;

(32) 44°27.65′ N. lat., 124°12.56′ W. long.;

(33) 44°19.67′ N. lat., 124°12.37′ W. long.;

(34) 44°10.79′ N. lat., 124°12.22′ W. long.;

(35) 44°09.22′ N. lat., 124°12.28′ W. long.;

(36) 44°08.30′ N. lat., 124°12.30′ W. long.;

(37) 44°00.22′ N. lat., 124°12.80′ W. long.;

(38) 43°51.56′ N. lat., 124°13.17′ W. long.;

(39) 43°44.26′ N. lat., 124°14.50′ W. long.;

(40) 43°33.82′ N. lat., 124°16.28′ W. long.;

(41) 43°28.66′ N. lat., 124°18.72′ W. long.;

(42) 43°23.12′ N. lat., 124°24.04′ W. long.;

(43) 43°20.83′ N. lat., 124°25.67′ W. long.;

(44) 43°20.49′ N. lat., 124°25.90′ W. long.;

(45) 43°16.41′ N. lat., 124°27.52′ W. long.;

(46) 43°14.23′ N. lat., 124°29.28′ W. long.;

(47) 43°14.03′ N. lat., 124°28.31′ W. long.;

(48) 43°11.92′ N. lat., 124°28.26′ W. long.;

(49) 43°11.02′ N. lat., 124°29.11′ W. long.;

(50) 43°10.13′ N. lat., 124°29.15′ W. long.;

(51) 43°09.27′ N. lat., 124°31.03′ W. long.;

(52) 43°07.73′ N. lat., 124°30.92′ W. long.;

(53) 43°05.93′ N. lat., 124°29.64′ W. long.;

(54) 43°01.59′ N. lat., 124°30.64′ W. long.;

(55) 42°59.73′ N. lat., 124°31.16′ W. long.;

(56) 42°53.75′ N. lat., 124°36.09′ W. long.;

(57) 42°50.00′ N. lat., 124°38.39′ W. long.;

(58) 42°49.37′ N. lat., 124°38.81′ W. long.;

(59) 42°46.42′ N. lat., 124°37.69′ W. long.;

(60) 42°46.07′ N. lat., 124°38.56′ W. long.;

(61) 42°45.29′ N. lat., 124°37.95′ W. long.;

(62) 42°45.61′ N. lat., 124°36.87′ W. long.;

(63) 42°44.28′ N. lat., 124°33.64′ W. long.;

(64) 42°42.75′ N. lat., 124°31.84′ W. long.;

(65) 42°40.50′ N. lat., 124°29.67′ W. long.;

(66) 42°40.04′ N. lat., 124°29.19′ W. long.;

(67) 42°38.09′ N. lat., 124°28.39′ W. long.;

(68) 42°36.72′ N. lat., 124°27.54′ W. long.;

(69) 42°36.56′ N. lat., 124°28.40′ W. long.;

(70) 42°35.76′ N. lat., 124°28.79′ W. long.;

(71) 42°34.03′ N. lat., 124°29.98′ W. long.;

(72) 42°34.19′ N. lat., 124°30.58′ W. long.;

(73) 42°31.27′ N. lat., 124°32.24′ W. long.;

(74) 42°27.07′ N. lat., 124°32.53′ W. long.;

(75) 42°24.21′ N. lat., 124°31.23′ W. long.;

(76) 42°20.47′ N. lat., 124°28.87′ W. long.;

(77) 42°14.60′ N. lat., 124°26.80′ W. long.;

(78) 42°13.67′ N. lat., 124°26.25′ W. long.;

(79) 42°10.90′ N. lat., 124°24.57′ W. long.;

(80) 42°07.04′ N. lat., 124°23.35′ W. long.;

(81) 42°02.16′ N. lat., 124°22.59′ W. long.;

(82) 42°00.00′ N. lat., 124°21.81′ W. long.;

(83) 41°55.75′ N. lat., 124°20.72′ W. long.;

(84) 41°50.93′ N. lat., 124°23.76′ W. long.;

(85) 41°42.53′ N. lat., 124°16.47′ W. long.;

(86) 41°37.20′ N. lat., 124°17.05′ W. long.;

(87) 41°24.58′ N. lat., 124°10.51′ W. long.;

(88) 41°20.73′ N. lat., 124°11.73′ W. long.;

(89) 41°17.59′ N. lat., 124°10.66′ W. long.;

(90) 41°04.54′ N. lat., 124°14.47′ W. long.;

(91) 40°54.26′ N. lat., 124°13.90′ W. long.;

(92) 40°40.31′ N. lat., 124°26.24′ W. long.;

(93) 40°34.00′ N. lat., 124°27.39′ W. long.;

(94) 40°30.00′ N. lat., 124°31.32′ W. long.;

(95) 40°28.89′ N. lat., 124°32.43′ W. long.;

(96) 40°24.77′ N. lat., 124°29.51′ W. long.;

(97) 40°22.47′ N. lat., 124°24.12′ W. long.;

(98) 40°19.73′ N. lat., 124°23.59′ W. long.;

(99) 40°18.64′ N. lat., 124°21.89′ W. long.;

(100) 40°17.67′ N. lat., 124°23.07′ W. long.;

(101) 40°15.58′ N. lat., 124°23.61′ W. long.;

(102) 40°13.42′ N. lat., 124°22.94′ W. long.; and

(103) 40°10.00′ N. lat., 124°16.65′ W. long.

(3) Between the U.S./Canada border and 40°10′ N. lat., the western, offshore boundary of the RCA approximates the 100-fm (183-m) depth contour. The boundary is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°46.00′ N. lat., 124°32.10′ W. long.;

(96) 45°41.75′ N. lat., 124°28.12′ W. long.;

(97) 45°36.96′ N. lat., 124°24.48′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.38′ N. lat., 124°18.36′ W. long.;

(104) 45°03.83′ N. lat., 124°18.60′ W. long.;

(105) 44°58.05′ N. lat., 124°21.58′ W. long.;

(106) 44°47.67′ N. lat., 124°31.41′ W. long.;

(107) 44°44.55′ N. lat., 124°33.58′ W. long.;

(108) 44°39.88′ N. lat., 124°35.01′ W. long.;

(109) 44°32.90′ N. lat., 124°36.81′ W. long.;

(110) 44°30.33′ N. lat., 124°38.56′ W. long.;

(111) 44°30.04′ N. lat., 124°42.31′ W. long.;

(112) 44°26.84′ N. lat., 124°44.91′ W. long.;

(113) 44°17.99′ N. lat., 124°51.03′ W. long.;

(114) 44°13.68′ N. lat., 124°56.38′ W. long.;

(115) 44°08.30′ N. lat., 124°55.99′ W. long.;

(116) 43°56.67′ N. lat., 124°55.45′ W. long.;

(117) 43°56.47′ N. lat., 124°34.61′ W. long.;

(118) 43°42.73′ N. lat., 124°32.41′ W. long.;

(119) 43°30.93′ N. lat., 124°34.43′ W. long.;

(120) 43°20.83′ N. lat., 124°39.39′ W. long.;

(121) 43°17.45′ N. lat., 124°41.16′ W. long.;

(122) 43°07.04′ N. lat., 124°41.25′ W. long.;

(123) 43°03.45′ N. lat., 124°44.36′ W. long.;

(124) 43°03.90′ N. lat., 124°50.81′ W. long.;

(125) 42°55.70′ N. lat., 124°52.79′ W. long.;

(126) 42°54.12′ N. lat., 124°47.36′ W. long.;

(127) 42°50.00′ N. lat., 124°45.33′ W. long.;

(128) 42°44.00′ N. lat., 124°42.38′ W. long.;

(129) 42°40.50′ N. lat., 124°41.71′ W. long.;

(130) 42°38.23′ N. lat., 124°41.25′ W. long.;

(131) 42°33.03′ N. lat., 124°42.38′ W. long.;

(132) 42°31.89′ N. lat., 124°42.04′ W. long.;

(133) 42°30.09′ N. lat., 124°42.67′ W. long.;

(134) 42°28.28′ N. lat., 124°47.08′ W. long.;

(135) 42°25.22′ N. lat., 124°43.51′ W. long.;

(136) 42°19.23′ N. lat., 124°37.92′ W. long.;

(137) 42°16.29′ N. lat., 124°36.11′ W. long.;

(138) 42°13.67′ N. lat., 124°35.81′ W. long.;

(139) 42°05.66′ N. lat., 124°34.92′ W. long.;

(140) 42°00.00′ N. lat., 124°35.27′ W. long.;

(141) 41°47.04′ N. lat., 124°27.64′ W. long.;

(142) 41°32.92′ N. lat., 124°28.79′ W. long.;

(143) 41°24.17′ N. lat., 124°28.46′ W. long.;

(144) 41°10.12′ N. lat., 124°20.50′ W. long.;

(145) 40°51.41′ N. lat., 124°24.38′ W. long.;

(146) 40°43.71′ N. lat., 124°29.89′ W. long.;

(147) 40°40.14′ N. lat., 124°30.90′ W. long.;

(148) 40°37.35′ N. lat., 124°29.05′ W. long.;

(149) 40°34.76′ N. lat., 124°29.82′ W. long.;

(150) 40°36.78′ N. lat., 124°37.06′ W. long.;

(151) 40°32.44′ N. lat., 124°39.58′ W. long.;

(152) 40°30.00′ N. lat., 124°38.13′ W. long.;

(153) 40°24.82′ N. lat., 124°35.12′ W. long.;

(154) 40°23.30′ N. lat., 124°31.60′ W. long.;

(155) 40°23.52′ N. lat., 124°28.78′ W. long.;

(156) 40°22.43′ N. lat., 124°25.00′ W. long.;

(157) 40°21.72′ N. lat., 124°24.94′ W. long.;

(158) 40°21.87′ N. lat., 124°27.96′ W. long.;

(159) 40°21.40′ N. lat., 124°28.74′ W. long.;

(160) 40°19.68′ N. lat., 124°28.49′ W. long.;

(161) 40°17.73′ N. lat., 124°25.43′ W. long.;

(162) 40°18.37′ N. lat., 124°23.35′ W. long.;

(163) 40°15.75′ N. lat., 124°26.05′ W. long.;

(164) 40°16.75′ N. lat., 124°33.71′ W. long.;

(165) 40°16.29′ N. lat., 124°34.36′ W. long.; and

(166) 40°10.00′ N. lat., 124°21.12′ W. long.;

* * * * *

Classification

This final rule has been determined to be not significant for purposes of Executive Order 12866 (E.O. 12866). In addition, the groundfish inseason action is taken under the authority of 50 CFR 660.370(c) and is exempt from review under E.O. 12866.

The groundfish inseason action is authorized by the Pacific Coast groundfish FMP and its implementing regulations, and is based on the most recent data available. The aggregate data upon which this action is based are available for public inspection at the Office of the Administrator, Northwest Region, NMFS, (see ADDRESSES) during business hours.

Pursuant to 5 U.S.C. 553(b)(B), there is good cause to waive prior notice and an opportunity for public comment on the changes to the groundfish regulations, as notice and comment is impracticable and unnecessary. Notice and comment is impracticable because changes to Washington and Oregon's recreational groundfish fishery management measures to prohibit the landing or retention of groundfish, except sablefish when halibut are onboard the vessel, must be implemented in a timely manner to be effective when the sport halibut season starts on May 1, 2005, in areas off Washington and Oregon. Notice and comment is unnecessary because public notice and comment on this same provision in the halibut regulations was provided via the proposed rule for the Pacific halibut fisheries, which was published on February 7, 2005 (70 FR 6395). [NOTE: The proposed rule published later than expected because, as explained in the preamble, there was confusion over the Pacific Council's recommendation to prohibit the retention of all groundfish, except sablefish when allowed by groundfish regulation, in the Columbia River fishery during all days and in the Central Coast fisheries during “all-depth” days. NMFS was required to coordinate with the states and Council staff in an attempt to clarify the Council's recommendations. NMFS decided to explain the issue in the proposed rule and ask the Council to clarify their recommendation at their March meeting.] This notice implements the same provision in both the halibut and groundfish regulations.

The AA finds good cause to waive the requirement to provide a 30-day delay in effectiveness (5 U.S.C. 553(d)). This rule must be made effective for the first opening of the 2005 Pacific halibut fishing season on April 14, 2005. The annual halibut quotas and many management measures are determined by an international commission, the IPHC. Therefore, the AA cannot publish a final rule until after the IPHC has adopted the annual quotas and management measures for the year. The IPHC adopted annual quotas and management measures for 2005 on January 21, 2005. NMFS published a proposed rule for 2005 on February 7, 2005, and provided a comment period that ran until March 16, 2005, so that the Pacific Council could provide a clarification on one of its recommendations. In addition, after the IPHC meeting, the states hold public meetings with their constituents on which they base their recommendations to NMFS. Therefore, there was not sufficient time in which to draft and publish the final rule in the Federal Register and to allow for a 30-day delay in effectiveness before the scheduled April 14, 2005, start of the fishing season.

Delaying the opening of the fishing season would cause the Federal regulations implemented for 2004 to remain in place until they are replaced by these regulations. Therefore, if there were a 30-day delay in effectiveness for these regulations, the fishery would operate under last year's regulations for the first few weeks of the fishery. The start dates for most of the recreational fisheries off Washington and Oregon are slightly different in 2005 than they were in 2004. For example, in Puget Sound, the fishery started on May 6 in 2004, but is scheduled to start on April 14 in 2005. A delay in effectiveness of this rule would delay the season by a few weeks, which could cause economic harm to charter operators and lost harvest opportunity to recreational anglers due to a shorter season than projected necessary to attain the quota for this subarea. Because the number of days set for the season is based on how many days it would take to catch the available quota, a shortened season may not only keep anglers and charter operators from achieving the quota, but it would cause lost revenues from charter trips already booked for the beginning of the season. In addition, recreational fisheries start dates primarily differ from year to year because the Plan has a long history of managing the different subareas so that fisheries occur on particular days of the week. Thus, a Sunday through Thursday fishery will always occur Sundays through Thursdays, but will have different calendar dates from year to year. Although NMFS was able to provide a public comment period following the proposed rule (February 7, 2005 (70 FR 6395)), the agency did not have time to publish a final rule and allow a 30-day delay in effectiveness period prior to April 14. The states of Washington and Oregon have adopted recreational halibut regulations that match these regulations. A delay in effectiveness of 30 days would cause the state and Federal regulations to be in conflict, would cause confusion in the recreational fishing industry, and would result in fishing seasons that differ from the seasons carefully crafted by the states, the industry, and the Pacific Council. This delay could harm commercial and recreational fishermen by lost opportunity to harvest their available 2005 quota. For the charter industry, previously planned fishing trips would have to be cancelled, resulting in lost revenue, if the season were delayed. In addition, conflicting state and Federal regulations would make enforcement of regulations difficult and create public confusion. For the reasons described above, pursuant to 5 U.S.C. 553(d)(3), there is good cause to waive the requirement to provide a 30-day delay in effectiveness of this rule so that this final rule may become effective in time for the first recreational halibut fishing season on April 14, 2005.

The recreational groundfish fishery regulatory changes off Washington and Oregon to prohibit the landing or retention of groundfish, except sablefish when halibut are onboard the vessel will be effective May 1, 2005.

NMFS prepared a final regulatory flexibility analysis (FRFA). The FRFA incorporates the IRFA, a summary of the significant issues raised by the public comments in response to the IRFA, and NMFS responses to those comments, and a summary of the analyses completed to support the action. A copy of this analysis is available from the NMFS (see ADDRESSES) and a summary of the FRFA follows:

This rule is needed to implement the Plan and annual domestic management measures in Area 2A. The main objective for the Pacific halibut fishery in Area 2A is to manage fisheries to remain within the TAC for Area 2A, while also allowing each commercial, recreational and tribal fishery to target halibut in the manner most appropriate for the user's needs within that fishery. This rule is intended to enhance the conservation of Pacific halibut, to protect yelloweye and other overfished groundfish species from incidental catch in the halibut fisheries, and to provide greater angler opportunity where available.

The agency received three letters of comment on the proposed rule, but none of the comments received addressed the IRFA.

In determining the potential universe of entities subject to this rule, NMFS considered those entities to which this rule applies. Although many small and large nonprofit enterprises track fisheries management issues on the West Coast, the changes to the Plan and annual management measures will not directly affect those enterprises. Similarly, although many fishing communities are small governmental jurisdictions, no direct regulations for those governmental jurisdictions will result from this rule. However, charterboat operations and participants in the non-treaty directed commercial fishery off the coast of Washington and Oregon are small businesses that are directly regulated by this rule.

Approximately 700 vessels were issued IPHC licenses to retain halibut in 2004. IPHC issues licenses for: the directed commercial fishery in Area 2A, including licenses issued to retain halibut caught incidentally in the primary sablefish fishery (215 licenses in 2004); incidental halibut caught in the salmon troll fishery (344 licenses in 2004); and the charterboat fleet (138 licenses in 2004). No vessel may participate in more than one of these three fisheries per year. Individual recreational anglers and private boats are the only sectors that are not required to have an IPHC license to retain halibut.

Vessels participating in the directed commercial halibut fishery and incidental halibut caught in the salmon troll fishery are considered small entities if their annual receipts do not exceed $3.5 million. All of the vessels that participate in the Pacific halibut fisheries in Area 2A are considered small businesses under Small Business Administration guidance.

Specific data on the economics of halibut charter operations are unavailable. However, the Pacific States Marine Fisheries Commission (Commission) is completing a report on the overall West Coast charterboat fleet. In surveying charterboat vessels concerning their operations in 2000, the Commission estimated that there were about 315 charterboat vessels in operation off Washington and Oregon. Compared with the 138 IPHC licenses in 2004, this estimate suggests that approximately 44 percent of the charterboat fleet participates in the halibut fishery. The Commission has developed preliminary estimates of the annual revenues earned by this fleet and they vary by size class of the vessels and home state. Small charterboat vessels range from 15 to 30 feet and typically carry 5 to 6 passengers. Medium charterboat vessels range from 31 to 49 feet in length and typically carry 19 to 20 passengers. (Neither state has large vessels of greater than 49 feet in their fleet.) Average annual revenues from all types of recreational fishing, whalewatching and other activities ranged from $7,000 for small Oregon vessels to $131,000 for medium Washington vessels. These data confirm that charterboat vessels qualify as small entities under the Regulatory Flexibility Act.

This rule does not impose any new reporting or recordkeeping requirements.

For each of the 2005 revisions, NMFS is implementing a Plan or regulatory revision intended to either improve flexibility for anglers or ensure consistency between Federal groundfish and halibut regulations. NMFS does not expect any significant economic impacts for small entities from this proposed rule. The NEPA analysis for this action reviewed alternatives including no action, adopting a closed area on Stonewall Bank, prohibiting groundfish retention in the Columbia River and Oregon's Central coast areas, and removing the minimum length requirement. The preferred alternatives, which are part of the actions taken in this final rule, were to adopt both a closed area on Stonewall Bank and prohibit groundfish retention in the Columbia River and Oregon's Central coast areas as well as removing the minimum length requirement. There were no alternatives that could have similarly improved angler enjoyment of and participation in the fisheries while simultaneously protecting halibut and co-occurring groundfish species from overharvest.

The changes to the Plan and domestic management do not affect the process of evaluating quota-attainment. The changes to the Plan and domestic management measures increase flexibility in management and opportunity to harvest available quota. There are no large entities involved in the halibut fisheries, therefore, none of these changes to the Plan and domestic management measures will have a disproportionate negative effect on small entities versus large entities. None of these changes to the Plan and domestic management measures will significantly reduce profitability for small entities. In fact, increasing opportunity to harvest available sport halibut quota may increase profitability for some small entities.

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. As part of halibut management in Area 2A, NMFS maintains a toll-free telephone hotline where members of the public may call in to receive current information on seasons and requirements to participate in the halibut fisheries in Area 2A. This hotline also serves as small entity compliance guide. Copies of this final rule are available from the NMFS Northwest Regional Office upon request (See ADDRESSES). To hear the small entity compliance guide associated with this final rule, call the NMFS hotline at 800-662-9825.

Pursuant to Executive Order 13175, the Secretary of Commerce recognizes the sovereign status and co-manager role of Indian tribes over shared Federal and tribal fishery resources. At section 302(b)(5), the Magnuson-Stevens Fishery Conservation and Management Act establishes a seat on the Pacific Council for a representative of an Indian tribe with federally recognized fishing rights from California, Oregon, Washington, or Idaho.

The U.S. government formally recognizes that the 12 Washington Tribes have treaty rights to fish for Pacific halibut. In general terms, the quantification of those rights is 50 percent of the harvestable surplus of Pacific halibut available in the tribes' usual and accustomed (U and A) fishing areas (described at 50 CFR 300.64). Each of the treaty tribes has the discretion to administer their fisheries and to establish their own policies to achieve program objectives. Accordingly, tribal allocations and regulations, including changes tothe Plan, have been developed in consultation with the affected tribe(s) and, insofar as possible, with tribal consensus. This final rule was developed after meaningful consultation with the tribal representative on the Council who has agreed with the provisions that apply to tribal vessels.

This final rule does not contain policies with federalism implications under Executive Order 13132.

List of Subjects in 50 CFR Part 660

Administrative practice and procedure, American Samoa, Fisheries, Fishing, Guam, Hawaiian Natives, Indians, Northern Mariana Islands, Reporting and recordkeeping requirements.

Dated: April 12, 2005.
John Oliver,
Deputy Assistant Administrator for Operations, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. In § 660.384, paragraphs (c)(1) and (c)(2)(iii) are revised to read as follows:

§ 660.384 Recreational fishery management measures.

* * * * *

(c) * * *

(1) Washington. For each person engaged in recreational fishing in the EEZ seaward of Washington, the groundfish bag limit is 15 groundfish per day, including rockfish and lingcod, and is open year-round (except for lingcod). In the Pacific halibut fisheries, retention of groundfish is governed in part by annual management measures for Pacific halibut fisheries, which are published in the Federal Register. South of Leadbetter Point, WA to the Washington/Oregon border, when Pacific halibut are onboard the vessel, landing groundfish, except sablefish, is prohibited. The following sublimits and closed areas apply: * * *

* * * * *

(2) * * *

(iii) Bag limits, size limits. The bag limits for each person engaged in recreational fishing in the EEZ seaward of Oregon are two lingcod per day, which may be no smaller than 24 in (61 cm) total length; and 8 marine fish per day, which excludes Pacific halibut, salmonids, tuna, perch species, sturgeon, sanddabs, lingcod, striped bass, hybrid bass, offshore pelagic species and baitfish (herring, smelt, anchovies and sardines), but which includes rockfish, greenling, cabezon and other groundfish species. The minimum size limit for cabezon retained in the recreational fishery is 16 in (41 cm) and for greenling is 10 in (26 cm). Taking and retaining canary rockfish and yelloweye rockfish is prohibited. In the Pacific halibut fisheries, retention of groundfish is governed in part by the Pacific halibut regulations. South of the Washington/Oregon border to Cape Falcon, OR, when Pacific halibut are onboard the vessel, landing groundfish, except sablefish, is prohibited. South of Cape Falcon, OR, to Humbug Mountain, OR, when Pacific halibut are onboard the vessel, retention of groundfish, except sablefish, is prohibited during the Central Coast sport halibut “all-depth” season days. “All-depth” season days are established in the annual management measures for Pacific halibut fisheries, which are published in the Federal Register and are announced on the NMFS halibut hotline, 1-800-662-9825.

[FR Doc. 05-7721 Filed 4-14-05; 3:08 pm]

BILLING CODE 3510-22-S